DEPARTMENT OF ENERGY

[OE Docket Nos. EA-363 and EA-364]

Applications To Export Electric Energy; Noble Energy Marketing and Trade Corp.

AGENCY: Office of Electricity Delivery and Energy Reliability, DOE.

ACTION: Notice of application.

SUMMARY: Under two separate applications, Noble Energy Marketing and Trade Corp. (NEMT) has applied for authority to transmit electric energy from the United States to Mexico and from the United States to Canada pursuant to section 202(e) of the Federal Power Act.

DATES: Comments, protests, or requests to intervene must be submitted on or before April 16, 2010.

ADDRESSES: Comments, protests, or requests to intervene should be addressed as follows: Office of Electricity Delivery and Energy Reliability, Mail Code: OE-20, U.S. Department of Energy, 1000 Independence Avenue, SW., Washington, DC 20585-0350 (FAX 202-586-8008).

FOR FURTHER INFORMATION CONTACT: Anthony Como (Program Office) 202-586-5935 or Lot Cooke (Program Attorney) 202-586-0503.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On January 29, 2010, DOE received two applications from NEMT for authority to transmit electric energy from the United States to Mexico and from the United States to Canada as a power marketer using international transmission facilities located at the United States borders with Mexico and Canada. NEMT does not own any electric transmission facilities nor does it hold a franchised service area. The electric energy which NEMT proposes to export would be surplus energy purchased from electric utilities, Federal power marketing agencies, and other entities within the United States. NEMT has requested electricity export authorizations with a 5-year term.

The construction, operation, maintenance, and connection of each of the international transmission facilities to be utilized by NEMT has previously been authorized by a Presidential permit issued pursuant to Executive Order 10485, as amended.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE on or before the date listed above.

Comments on the NEMT applications to export electric energy to Mexico should be clearly marked with Docket No. EA-364; for exports to Canada please use Docket No. EA-365. Additional copies are to be filed directly with Joseph Limone, Noble Energy Marketing and Trade Corp., 333 Ludlow Street, Suite 1230, Stamford, CT 06902. A final decision will be made on this application after the environmental impacts have been evaluated pursuant to the National Environmental Policy Act of 1969, and a determination is made by DOE that the proposed action will not adversely impact on the reliability of the U.S. electric power supply system.

Copies of this application will be made available, upon request, for public inspection and copying at the address provided above, by accessing the program Web site at http://www.oe.energy.gov/permits_pending.htm, or by e-mailing Odessa Hopkins at Odessa.hopkins@hq.doe.gov.

Issued in Washington, DC, on February 19, 2010.
Anthony J. Como,
Director, Permitting and Siting, Office of Electricity Delivery and Energy Reliability.

[FR Doc. 2010-5798 Filed 3-16-10; 8:45 am]

BILLING CODE 6450-01-P